FEDERAL RESERVE SYSTEM

Change in Bank Control Notices; Formations of, Acquisitions by, and Mergers of Bank Holding Companies; Correction

This notice corrects a notice (FR Doc. 2014-12672) published on page 31335 of the issue for Monday, June 2, 2014.

Under the Federal Reserve Bank of Dallas heading, the entry for Kenneth D. Willmon, individually and as co-trustee of AIM Bancshares, Inc. 401(k) and Employee Stock Ownership Program; Lanny B. Modawell; Marjorie Willmon; and Debra Willmon, all of Lubbock, Texas, is revised to read as follows:

1. Kenneth D. Willmon, individually and as co-trustee of AIM Bancshares, Inc. 401(k) and Employee Stock Ownership Program; Lanny B. Modawell; Marjorie Willmon; and Debra Willmon, all of Lubbock, Texas; to retain voting shares of AIM Bancshares, Inc., Levelland, Texas, and thereby indirectly retain voting shares of AimBank, Littlefield, Texas.

Comments on this application must be received by June 17, 2014.

In addition, this notice also corrects a notice (FR Doc. 2014-12361) published on page 30844 of the issue for Thursday, May 29, 2014.

Under the Federal Reserve Bank of Minneapolis heading, the entry for Carol A. Nelson, Baxter, Minnesota, and Lee W. Anderson, Tower, Minnesota, individually, and, with Doug B. Junker, Brainerd, Minnesota, as a group acting in concert, is revised to read as follows:

1. Carol A. Nelson, Lake Shore, Minnesota, and Lee W. Anderson, Tower, Minnesota, individually, and, with Doug B. Junker, Brainerd, Minnesota, as a group acting in concert; to acquire voting shares of Timberland Bancorp, Baxter, Minnesota, and thereby indirectly acquire voting shares of First National Bank of Buhl, Mountain Iron, Minnesota.

Comments on this application must be received by June 11, 2014.

Board of Governors of the Federal Reserve System, June 2, 2014.
Michael J. Lewandowski,
Associate Secretary of the Board.

[FR Doc. 2014-13040 Filed 6-4-14; 8:45 am]

BILLING CODE 6210-01-P